DEPARTMENT OF JUSTICE

Drug Enforcement Administration

[Docket No. DEA-392]

Bulk Manufacturer of Controlled Substances Application: Absolute Standards, Inc.

ACTION: Notice of application.

DATES: Registered bulk manufacturers of the affected basic classes, and applicants therefore, may file written comments on or objections to the issuance of the proposed registration on or before September 3, 2019.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on May 22, 2019, Absolute Standards, Inc., 44 Rossotto Drive, Hamden, Connecticut 06514-1335 applied to be registered as a bulk manufacturer of the following basic class of controlled substance:

Controlled substance | Drug code | Schedule
Pentobarbital | 2270 | II

The company plans to bulk manufacture the listed controlled substance for distribution to customers.

Dated: June 19, 2019.
John J. Martin,
Assistant Administrator.

[FR Doc. 2019-14029 Filed 7-1-19; 8:45 am]

BILLING CODE 4410-09-P